DEPARTMENT OF ENERGY

10 CFR Part 431

[EERE-2022-BT-STD-0015]

Appliance Standards and Rulemaking Federal Advisory Committee: Notice of Public Meetings of the Commercial Unitary Air Conditioner and Commercial Unitary Heat Pump Working Group

AGENCY: Office of Energy Efficiency and Renewable Energy, U.S. Department of Energy.

ACTION: Notice of public meetings and webinars.

SUMMARY: The U.S. Department of Energy (DOE or the Department) announces public meetings and webinars for the Commercial Unitary Air Conditioner and Commercial Unitary Heat Pump (CUAC and CUHP) working group.

DATES: See the SUPPLEMENTARY INFORMATION section for meeting dates.

ADDRESSES: The next several rounds of public meetings will be held at the U.S. Department of Energy, Forrestal Building, 1000 Independence Avenue SW, Washington, DC 20585-0121. Please see the SUPPLEMENTARY INFORMATION section of this notice to find the specific room in the Forrestal Building for each date. For additional information the public meeting, including webinar registration information, participant instructions, and information about the capabilities available to webinar participants, please see the Public Participation section of this notice.

FOR FURTHER INFORMATION CONTACT: Mr. Lucas Aiden, U.S. Department of Energy, Office of Building Technologies, EE-5B, 950 L'Enfant Plaza SW, Washington, DC 20024. Telephone: (202) 287-5904. Email: ASRAC@ee.doe.gov.

SUPPLEMENTARY INFORMATION: On July 7, 2022, the Appliance Standards and Rulemaking Federal Advisory Committee (ASRAC) met and passed the recommendation to form a CUAC and CUHP working group to meet and discuss and, if possible, reach a consensus on proposed Federal test procedures and energy conservation standards for CUACs and CUHPs. On August 2, 2022, DOE published a notice of intent to establish a working group for CUACs and CUHPs to negotiate recommended test procedures and energy conservations standards for CUACs and CUHP equipment. Once the working group reaches consensus on recommended test procedures and energy conservation standards, these recommendations are made to ASRAC, which may then use such consensus as the basis for making a recommendation to the Department. The Department, consistent with its legal obligations, may use such consensus as the basis of a rulemaking, which then is published in the Federal Register.

The working group for CUACs and CUHPs held public meetings on September 20-21, 2022, October 11-12, 2022, November 9-10, 2022, November 29-30, 2022, December 7-8, 2022, and December 14-15, 2022. As a result of these meetings, the working group successfully reached consensus on an amended test procedure for CUAC and CUHP equipment. This notice announces public meetings to begin negotiations in an attempt to reach consensus on energy conservation standards for CUACs and CUHPs.

DOE will host a public meeting and webinar on the following dates:

• Wednesday, February 22nd, 2023 from 10:00 a.m. to 5:00 p.m. at U.S. Department of Energy, Forrestal Building, Room 6E-069.

• Thursday, February 23rd, 2023 from 9:00 a.m. to 3:00 p.m. at U.S. Department of Energy, Forrestal Building, Room 6E-069.

• Tuesday, March 7th, 2023 from 10:00 a.m. to 5:00 p.m. at U.S. Department of Energy, Forrestal Building, Room 4A-104.

• Wednesday, March 8th, 2023 from 9:00 a.m. to 3:00 p.m. at U.S. Department of Energy, Forrestal Building, Room 4A-104.

• Tuesday, March 21st, 2023 from 10:00 a.m. to 5:00 p.m. at U.S. Department of Energy, Forrestal Building, Room 1E-245.

• Wednesday, March 22nd, 2023 from 9:00 a.m. to 3:00 p.m. at U.S. Department of Energy, Forrestal Building, Room 1E-245.

Public Participation

Attendance at Public Meeting

The times, dates, and locations of the public meetings are listed in the SUPPLEMENTARY INFORMATION section of this document. If you plan to attend the public meeting, please notify the ASRAC staff at asrac@ee.doe.gov. In the email, please indicate your name, organization (if appropriate), citizenship, and contact information.

Please note that foreign nationals participating in the public meeting or webinar are subject to advance security screening procedures which require advance notice prior to attendance at the public meeting. If a foreign national wishes to participate in the public meeting or webinar, please inform DOE as soon as possible by contacting Ms. Regina Washington at (202) 586-1214 or by email: Regina.Washington@ee.doe.gov so that the necessary procedures can be completed.

Anyone attending the meetings will be required to present a government photo identification, such as a passport, driver's license, or government identification. Due to the required security screening upon entry, individuals attending should arrive early to allow for the extra time needed.

In addition, you can attend the public meeting via webinar. Webinar registration information, participant instructions, and information about the capabilities available to webinar participants will be published on DOE's website: https://energy.gov/eere/buildings/appliance-standards-and-rulemaking-federal-advisory-committee. Participants are responsible for ensuring their systems are compatible with the webinar software.

Public Participation and Submission of Written Comments

Members of the public will be heard in the order in which they sign up for the Public Comment Period. Time allotted per speaker will depend on the number of individuals who wish to speak but will not exceed five minutes. Reasonable provisions will be made to include the scheduled oral statements on the agenda. A third-party neutral facilitator will make every effort to allow the presentations of views of all interested parties and to facilitate the orderly conduct of business.

Any person who has plans to present a prepared general statement may request that copies of his or her statement be made available at the public meeting. Such persons may submit requests, along with an advance electronic copy of their statement in PDF (preferred), Microsoft Word or Excel, WordPerfect, or text (ASCII) file format, to the appropriate address shown in the FOR FURTHER INFORMATION CONTACT section of this notice. The request and advance copy of statements must be received at least one week before the public meeting and may be emailed, hand-delivered, or sent by postal mail. DOE prefers to receive requests and advance copies via email. Please include a telephone number to enable DOE staff to make a follow-up contact, if needed.

Conduct of the Public Meetings

ASRAC's Designated Federal Officer will preside at the public meetings and may also use a professional facilitator to aid discussion. The meetings will not be judicial or evidentiary-type public hearings, but DOE will conduct them in accordance with section 336 of EPCA (42 U.S.C. 6306). A court reporter will be present to record the proceedings and prepare a transcript. A transcript of each public meeting will be included on DOE's website: https://energy.gov/eere/buildings/appliance-standards-and-rulemaking-federal-advisory-committee. In addition, any person may buy a copy of each transcript from the transcribing reporter. Public comment and statements will be allowed prior to the close of each meeting.

Docket

The docket is available for review at: www.regulations.gov/docket/EERE-2022-BT-STD-0015, including Federal Register notices, public meeting attendee lists and transcripts, comments, and other supporting documents/materials. All documents in the docket are listed in the https://www.regulations.gov index. However, not all documents listed in the index may be publicly available, such as information that is exempt from public disclosure.

Signing Authority

This document of the Department of Energy was signed on February 7, 2023, by Francisco Alejandro Moreno, Acting Assistant Secretary for Energy Efficiency and Renewable Energy, pursuant to delegated authority from the Secretary of Energy. That document with the original signature and date is maintained by DOE. For administrative purposes only, and in compliance with requirements of the Office of the Federal Register, the undersigned DOE Federal Register Liaison Officer has been authorized to sign and submit the document in electronic format for publication, as an official document of the Department of Energy. This administrative process in no way alters the legal effect of this document upon publication in the Federal Register.

Signed in Washington, DC, on February 8, 2023.
Treena V. Garrett,
Federal Register Liaison Officer, U.S. Department of Energy.

[FR Doc. 2023-03035 Filed 2-13-23; 8:45 am]

BILLING CODE 6450-01-P